DEPARTMENT OF TRANSPORTATION

Federal Transit Administration

Supplemental Draft Environmental Impact Statement for the Central Corridor Light Rail Transit Project, Minneapolis and Saint Paul, MN

AGENCY: Federal Transit Administration (FTA), DOT.

ACTION: Notice of intent to prepare a Supplemental Draft Environmental Impact Statement.

SUMMARY: The Federal Transit Administration (FTA) as the federal lead agency, in cooperation with the Metropolitan Council, is issuing this notice of intent (NOI) to advise interested parties that it proposes to prepare a Supplemental Draft Environmental Impact Statement (SDEIS) for the Central Corridor Light Rail Transit (LRT) Project, located in Minneapolis and Saint Paul, Minnesota (Project). The Project is 10.9 miles long and consists of 23 Central Corridor Light Rail Transit (LRT) stations. The SDEIS will evaluate potential impacts on the loss of business revenue during construction of the Central Corridor LRT Project and will be prepared in accordance with the National Environmental Policy Act (NEPA), its implementing regulations, and provisions of the Safe, Accountable, Flexible, Efficient Transportation Equity Act: A Legacy for Users (SAFETEA-LU).

FOR FURTHER INFORMATION CONTACT: Sheila Clements, Supervisory Community Planner, Federal Transit Administration, Region V, 200 West Adams Street, Suite 320, Chicago, Illinois 60606, Telephone: (312) 353-1552.

SUPPLEMENTARY INFORMATION: The Central Corridor LRT is 10.9-miles in length, of which 9.7 miles consists of new alignment and 1.2 miles uses the existing Hiawatha LRT alignment in downtown Minneapolis. The Project will connect the Minneapolis and Saint Paul downtown areas as well as the University of Minnesota and the State Capitol complex. The purpose of the Project is to meet the future transit needs of the Central Corridor and the Region and to support the economic development goals for the Corridor. It allows the opportunity to provide a direct connection to the existing 11.6-mile Hiawatha LRT line in Minneapolis thereby, increasing mobility options within the Region.

In June 2009, FTA, in cooperation with the Metropolitan Council, prepared a Final Environmental Impact Statement (FEIS) on the Project. FTA issued a Record of Decision (ROD) on the Project in August 2009. Subsequent to FTA's issuance of the ROD, the U.S. District Court for the District of Minnesota determined that the FEIS did not adequately evaluate potential impacts on the loss of business revenue during construction of the Project and that these impacts must be evaluated through a supplemental environmental review. Memorandum Opinion and Order, Civil No. 10-147, (Jan. 26, 2011). Pursuant to the court's order, FTA, in cooperation with the Metropolitan Council, prepared a Supplemental Environmental Assessment (SEA) pursuant to its NEPA implementing regulations, which was issued in February 2011. Subsequent to FTA's issuance of the SEA, the court determined that FTA must also prepare a supplemental environmental review using the format of an Environmental Impact Statement. Memorandum Opinion and Order, Civil No. 10-147, (Jan. 23, 2012). Thus, the SDEIS that will be prepared pursuant to this notice of intent will evaluate potential impacts on the loss of business revenue during construction of the Central Corridor LRT Project. This notice of intent is being published at this time to notify interested parties and invite participation in the study.

Notice regarding the intent to prepare the SDEIS will be sent to the appropriate Federal, State, and local agencies that have expressed or are known to have an interest or legal role in this proposed action. When complete, the SDEIS will be made available for public and agency review and comment prior to any public hearings. Following publication, review, and approval of the SDEIS, a FEIS will be prepared and circulated.

The Paperwork Reduction Act seeks, in part, to minimize the cost to the taxpayer of the creation, collection, maintenance, use, dissemination, and disposition of information. Consistent with this goal and with principles of economy and efficiency in government, it is FTA policy to limit insofar as possible distribution of complete printed sets of NEPA documents. Accordingly, unless a specific request for a complete printed set of the NEPA document is received before the document is printed, FTA and its grant applicants will distribute only electronic copies of the NEPA document. A complete printed set of the environmental document will be available for review at the Metropolitan Council's offices and elsewhere; an electronic copy of the complete environmental document will be available on the Metropolitan Council's Central Corridor Project Web site (http://www.centralcorridor.org).

Issued on: May 8, 2012.
Marisol Simon,
Regional Administrator, FTA Region V.

[FR Doc. 2012-11566 Filed 5-11-12; 8:45 am]

BILLING CODE P